FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission,Washington, DC 20573.

Non-Vessel Operating Common Carrier Ocean Transportation Intermediary Applicants

Roy's Shipping Inc dba Quikship Caribbean Services, 2153 West Colonial Drive, Orlando, FL 32804. Officer: Roy Rattray, President (Qualifying Individual).

IMA Limited dba Miracle Brokers/BWIE, 207 Sparky Drive, Cayman Islands. Officer: Irma Chirino, Managing Director (Qualifying Individual).

Non-Vessel Operating Common Carrier and Ocean Freight Forwarder Transportation Intermediary Applicants

Hyde Ocean Services, Inc., 9595 Valparaiso Court, Indianapolis, IN 46268. Officer: John Richard Hyde, President (Qualifying Individual).

U.S. Xpress, Inc. dba Xpress Network Solutions, a Division of U.S. Xpress, Inc., 4080 Jenkins Road, Chattanooga, TN 37421. Officers: Cory Bonner, Vice President (Qualifying Individual), Max L. Fuller, President.

CY Shipping and Cargo Transfer, 22 A Mars Hill, Frederiksted, VI 00841, Cyprian Theodore, Sole Proprietor.

GLS Logistics Inc., 147-20 181st Street, Jamaica, NY 11434. Officer: Richard Hao, President (Qualifying Individual).

Ocean Freight Forwarder—Ocean Transportation Intermediary Applicant

O.N.S. International Forwarding Inc., 6326 Leslie Street, Jupiter, FL 33458. Officers: Henry A. Stein, President (Qualifying Individual), Joanna Stein, Secretary.

Dated: October 19, 2007.
Bryant L. VanBrakle,
Secretary.

[FR Doc. E7-20946 Filed 10-23-07; 8:45 am]

BILLING CODE 6730-01-P